DEPARTMENT OF DEFENSE

Office of the Secretary

[Docket ID: DoD-2022-OS-0084]

Submission for OMB Review; Comment Request

AGENCY: The Office of the Under Secretary of Defense for Research and Engineering (OUSD(R&E)), Department of Defense (DoD).

ACTION: 30-Day information collection notice.

SUMMARY: The DoD has submitted to the Office of Management and Budget (OMB) for clearance the following proposal for collection of information under the provisions of the Paperwork Reduction Act.

DATES: Consideration will be given to all comments received by October 26, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Science, Mathematics and Research for Transformation Scholarship Program; DD Forms 3067-2, 3067-4, 3067-7, 3067-8, 3067-9, 3067-11, 3067-12, 3067-13, 3067-15; OMB Control Number 0704-0466.

Type of Request: Revision.

Number of Respondents: 2,800 (a percentage of respondents complete one or multiple instruments).

Responses per Respondent: 3.8.

Annual Responses: 10,640.

Average Burden per Response: 3 hours.

Annual Burden Hours: 31,920 hours.

Needs and Uses: Science, Mathematics and Research for Transformation Scholarship Program (SMART) is designed to increase the number of new civilian science, technology, engineering, and mathematics (STEM) entrants to the DoD. Additionally, the SMART Program develops and retains current DoD civilian STEM employees that are critical to the national security functions of the DoD and are needed in the DoD's workforce. SMART awards scholarships, ranging from 1.5 to 5 years, to undergraduate and graduate level students pursuing a degree in one of 21 technical disciplines. Upon graduation, scholars fulfill a service commitment with the DoD facility that nominated the scholar for an award. The information collection activity under review is a statutory and functional requirement necessary to administer the scholarship program.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: September 20, 2022.
Aaron T. Siegel,
Alternate OSD Federal Register Liaison Officer, Department of Defense.

[FR Doc. 2022-20704 Filed 9-23-22; 8:45 am]

BILLING CODE 5001-06-P